DEPARTMENT OF THE INTERIOR

National Park Service

[N6396; NPS-WASO-NAGPRA-NPS0040768; PPWOCRADN0-PCU00RP14.R50000]

Notice of Inventory Completion: University of Oregon Museum of Natural and Cultural History, Eugene, OR

AGENCY: National Park Service, Interior.

ACTION: Notice.

SUMMARY: In accordance with the Native American Graves Protection and Repatriation Act (NAGPRA), the University of Oregon Museum of Natural and Cultural History has completed an inventory of human remains and associated funerary objects and has determined that there is a cultural affiliation between the human remains and associated funerary objects and Indian Tribes or Native Hawaiian organizations in this notice.

DATES: Repatriation of the human remains and associated funerary objects in this notice may occur on or after September 4, 2025.

ADDRESSES: Send written requests for repatriation of the human remains and associated funerary objects in this notice to Dr. Pamela Endzweig, Director of Anthropological Collections, University of Oregon Museum of Natural and Cultural History, 1224 University of Oregon, Eugene, OR 97403-1224, email endzweig@uoregon.edu.

SUPPLEMENTARY INFORMATION: This notice is published as part of the National Park Service's administrative responsibilities under NAGPRA. The determinations in this notice are the sole responsibility of the University of Oregon Museum of Natural and Cultural History and additional information on the determinations in this notice, including the results of consultation, can be found in its inventory or related records. The National Park Service is not responsible for the determinations in this notice. The human remains and associated funerary objects were removed from Curry County, OR.

Abstract of Information Available

In 1935, human remains representing, at minimum, two individuals, were removed from Gwesa'L-henten, also known as the Euchre Creek site (35CU20), a village, burial ground, and midden, in Curry County, OR that is named as the principal village of the Euquachee band of southern Oregon Coast Athabascans. It is unknown when the site was first used, but the village was occupied by 102 individuals in when visited by Rev. Josiah Parrish in 1854. The remains were removed by J. Berreman of Stanford University in 1935 and later transferred to the University of Oregon Museum of Natural and Cultural History. Skeletal analyses indicate that the fragmentary remains include one adult female and one adult of indeterminate sex. No known individuals were identified. The 86 associated funerary objects include 85 pine nut beads and one projectile point. A second projectile point was not transferred to the Museum.

Historical Documents, ethnographic sources, and oral history indicate that the Tututni people have occupied this area of the southern Oregon coast since pre-contact times. Based on archaeological context and/or skeletal evidence, the two individuals above were determined to be Native American, of possible Tututni cultural affiliation.

Cultural Affiliation

Based on the information available and the results of consultation, cultural affiliation is reasonably identified by the geographical location or acquisition history of the human remains and associated funerary objects described in this notice.

Determinations

The University of Oregon Museum of Natural and Cultural History have determined that:

• The human remains described in this notice represent the physical remains of two individuals of Native American ancestry.

• The 86 objects described in this notice are reasonably believed to have been placed with or near individual human remains at the time of death or later as part of the death rite or ceremony.

• There is a connection between the human remains and associated funerary objects described in this notice and the Confederated Tribes of Siletz Indians of Oregon and the Coquille Indian Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 4, 2025. If competing requests for repatriation are received, the University of Oregon Museum of Natural and Cultural History must determine the most appropriate requestor prior to repatriation. Requests for joint repatriation of the human remains and associated funerary objects are considered a single request and not competing requests. The University of Oregon Museum of Natural and Cultural History is responsible for sending a copy of this notice to the Indian Tribes and Native Hawaiian organizations identified in this notice.

Authority: Native American Graves Protection and Repatriation Act, 25 U.S.C. 3003, and the implementing regulations, 43 CFR 10.10.

Dated: July 28, 2025.
Melanie O'Brien,
Manager, National NAGPRA Program.

[FR Doc. 2025-14796 Filed 8-4-25; 8:45 am]

BILLING CODE 4312-52-P